DEPARTMENT OF LABOR

Bureau of Labor Statistics

Data Users Advisory Committee, Notice of Meeting and Agenda

The Data Users Advisory Committee will meet on Friday, March 25, 2011. The meeting will be held in the Postal Square Building, 2 Massachusetts Avenue, NE., Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Postal Square Building Conference Center. The schedule and agenda for the meeting are as follows:

8:30 a.m. Registration.

8:45 a.m. Introductions and Welcome.

9 a.m. Commissioner's Remarks on the State of the BLS.

10 a.m. The BLS Strategic Plan.

11:15 a.m. BLS Outreach Activities.

1:15 p.m. The Role of Labor Market Statistics: How the Federal statistical system can better serve the needs of labor market participants and labor market policy makers.

3 p.m. Current Challenges in Price Measurement.

4:30 p.m. Wrap-up.

The meeting is open to the public. Any questions concerning the meeting should be directed to Kathy Mele, Data Users Advisory Committee, on 202.691.6102. Individuals who require special accommodations should contact Ms. Mele at least two days prior to the meeting date.

Signed at Washington, DC, this 1st day of March 2011.
Tod R. Sirois,
Acting Chief, Division of Management Systems, Bureau of Labor Statistics.

[FR Doc. 2011-5350 Filed 3-8-11; 8:45 am]

BILLING CODE 4510-24-P